DEPARTMENT OF STATE

[Public Notice: 9422]

Re-Consideration Concerning the Scope of Authorizations in a Presidential Permit Issued to Plains LPG Services, L.P. in May 2014 for Existing Pipeline Facilities on the Border of the United States and Canada Under the St. Clair River

AGENCY: Department of State.

ACTION: Notice.

SUMMARY: On May 23, 2014, the Department of State (Department) issued two Presidential Permits to Plains LPG Services, L.P. (Plains LPG) based on Plains LPG's acquisition of six existing pipelines under the St. Clair River and one existing pipeline under the Detroit River. Plains LPG had applied for new permits reflecting its ownership of the pipeline facilities, but it did not seek any change or expansion of the previous authorizations for the pipelines' use. The Presidential Permits issued in 2014 were intended to mirror previous authorizations from the 1970s, but the Department's records were incomplete, particularly with regard to the six pipelines under the St. Clair River in the vicinity of Marysville, Michigan. While Plains LPG's application asserted that the appropriate authorization was for the transport of any “liquefied hydrocarbons,” the Department issued one permit in 2014 for all of the St. Clair facilities authorizing the transport of “light liquid hydrocarbons,” which reflected the Department's understanding of how the St. Clair pipelines were actually used in the 1970s and more recently.

After the new permits were issued, Plains LPG provided new information that alters the Department's understanding of the historic authorization for two of the six St. Clair pipelines. These two pipelines were constructed in 1918; they have an outer diameter of eight inches and have subsequently been fitted with five-inch diameter liners. Specifically, Plains LPG provided the Department with copies of correspondence from 1971 between the Department and Dome Petroleum Corp. (the previous owner). In that correspondence Dome informed the Department that it had acquired the two St. Clair pipelines and that it planned to use them to transport “crude and other liquid hydrocarbons.” The Department wrote back to Dome acknowledging the letter and the company's plans. The 1918 Presidential Permit had authorized the transport of crude oil.

In light of this additional information, the Department is revisiting Plains LPG's 2012 application and considering whether to issue a new permit for these two St. Clair pipelines that would authorize the transport of crude and other liquid hydrocarbons, superseding the authorization in the 2014 Presidential Permit for the transport of only light liquid hydrocarbons. The Department published in the Federal Register a Notification of Receipt of Application for a Presidential Permit on December 5, 2012 (Federal Register Citation 77 FR 72430) and solicited public comment on the application for a 30-day period, during which time it received one public comment requesting the Department ensure the pipelines are maintained and operated under government environmental and safety oversight required by law. The Department notes that it is not reconsidering the scope of authorization for use of the other four Plains LPG pipelines under the St. Clair River, or the Plains LPG facilities under the Detroit River.

Plains LPG is a Texas limited partnership with its principal place of business at 333 Clay Street, Suite 1600, Houston, Texas 77002. Plains LPG is a subsidiary of Plains All American Pipeline, L.P., a publicly traded master limited partnership organized under the laws of the State of Delaware and headquartered in Houston, Texas.

The Department's consideration of the Presidential Permit for the St. Clair pipeline facilities is pursuant to E.O. 13337, which delegates to the Secretary of State the President's authority to receive applications for permits for the construction, connection, operation, or maintenance of a range of facilities at the borders of the United States, including pipelines for liquid petroleum products, and to issue or deny such Presidential Permits upon a national interest determination. The Department also is soliciting the views of concerned federal agencies. Consistent with E.O. 13337, the Department will determine whether issuance of a new Presidential Permit for two of the St. Clair Pipeline border facilities, as discussed in this notice, would serve the U.S. national interest.

DATES: Interested parties are invited to submit comments within 30 days of the publication date of this notice on http://www.regulations.gov with regard to whether issuing a new Presidential Permit for two of the St. Clair pipelines authorizing the transport of crude and other liquid hydrocarbons would serve the national interest. To submit a comment, go to http://www.regulations.gov, enter the title of this Notice into the search field and follow the prompts.

Comments are not private. They will be posted on the site. The comments will not be edited to remove identifying or contact information, and the State Department cautions against including any information that one does not want publicly disclosed. The State Department requests that any party soliciting or aggregating comments received from other persons for submission to the State Department inform those persons that the State Department will not edit their comments to remove identifying or contact information.

FOR FURTHER INFORMATION CONTACT: Office of Energy Diplomacy, Energy Resources Bureau (ENR/EDP/EWA) Department of State 2201 C St. NW., Ste 4428, Washington, DC 20520, Attn: Sydney Kaufman, Tel: 202-647-2041. Email: kaufmans@state.gov.

SUPPLEMENTARY INFORMATION: Additional information concerning the St. Clair pipeline facilities can be found at http://www.state.gov/e/enr/applicant/applicants/index.htm. Documents related to the Department of State's review of the application for a Presidential Permit can be found at http://www.state.gov/e/enr/applicant.

Dated: January 15, 2016.
Chris Davy,
Deputy Director, Energy Resources Bureau, Energy Diplomacy, Bureau of Energy Resources, U.S. Department of State.

[FR Doc. 2016-01419 Filed 1-22-16; 8:45 am]

BILLING CODE 4710-AE-P